DEPARTMENT OF ENERGY

Federal Energy Regulatory Commission

[Docket No. PL03-3-000]

Price Discovery in Natural Gas and Electric Markets; Notice of Filing

Take notice that on June 10, 2014, Canadian Enerdata Ltd. filed a request for the Federal Energy Regulatory Commission (Commission) to determine that its North American natural gas price reporting and index methodology and code of conduct meets all or substantially all of the requirements set forth in the Commission's Policy Statement on Natural Gas and Electric Price Indices (Policy Statement) ¹ and establishes minimum criteria for liquidity for particular index points for the indices to qualify for use in jurisdictional tariffs.

¹ Policy Statement on Natural Gas and Electric Price Indices, 104 FERC ¶ 61,121, at P 33 (2003) (Policy Statement).

Any person desiring to intervene or to protest these filings must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 22, 2014.

Dated: August 1, 2014.
Kimberly D. Bose,
Secretary.

[FR Doc. 2014-18891 Filed 8-8-14; 8:45 am]

BILLING CODE 6717-01-P